DEPARTMENT OF TRANSPORTATION

Federal Aviation Administration

Twenty-Ninth Meeting Special Committee 216 Aeronautical Systems Security

AGENCY: Federal Aviation Administration (FAA), U.S. Department of Transportation (DOT).

ACTION: TWENTY-NINTH MEETING Special Committee 216 Aeronautical Systems Security.

SUMMARY: The FAA is issuing this notice to advise the public of a meeting of TWENTY-NINTH MEETING Special Committee 216 Aeronautical Systems Security.

DATES: The meeting will be held September 19-23, 2016, 09:00 a.m.-5:00 p.m.

ADDRESSES: The meeting will be held at: General Aviation Manufacturers Association, Inc., 1400 K St. NW., #801, Washington, DC 20005.

FOR FURTHER INFORMATION CONTACT: Karan Hofmann at khofmann@rtca.org or (202) 330-0680, or The RTCA Secretariat, 1150 18th Street NW., Suite 910, Washington, DC 20036, or by telephone at (202) 833-9339, fax at (202) 833-9434, or Web site at http://www.rtca.org.

Notice: Those who plan to attend in person need to provide the following information to Karan Hofmann at khofmann@rtca.org no later than Wednesday, September 14th:

Name

Country of citizenship

Company

Email address

SUPPLEMENTARY INFORMATION: Pursuant to section 10(a)(2) of the Federal Advisory Committee Act (Pub. L. 92-463, 5 U.S.C., App.), notice is hereby given for a meeting of the TWENTY-NINTH MEETING Special Committee 216 Aeronautical Systems Security. The agenda will include the following:

Monday, September 19, 2016—9:00 a.m.-5:00 p.m.

1. Welcome and Administrative Remarks

2. Introductions

3. Agenda Review

4. Meeting-Minutes Review

5. Jointly with WG-72:

a. Review Joint Action List

b. Review White Papers

i. Status and intent of those planned and produced

ii. Gain common understanding of intent

iii. Resolve differences

6. Plan next steps in developing WG-72 and SC-216 harmonized draft document

7. Schedule Update

8. Date, Place and Time of Next Meeting

9. New Business

10. Adjourn Plenary

Tuesday, September 20, 2016—9:00 a.m.-5:00 p.m.

Continuation of Plenary or Working Group Sessions

Wednesday, September 21, 2016—9:00 a.m.-3:00 p.m.

Continuation of Plenary or Working Group Sessions

Thursday, September 22, 2016—9:00 a.m.-5:00 p.m.

Continuation of Plenary or Working Group Sessions

Friday, September 23, 2016—9:00 a.m.-5:00 p.m.

Continuation of Plenary or Working Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2016.
Mohannad Dawoud,
Management & Program Analyst, Partnership Contracts Branch, ANG-A17, NextGen, Procurement Services Division, Federal Aviation Administration.

[FR Doc. 2016-19285 Filed 8-12-16; 8:45 am]

BILLING CODE 4910-13-P